DEPARTMENT OF THE INTERIOR

Minerals Management Service

Environmental Documents Prepared for Proposed Oil and Gas Operations on the Gulf of Mexico Outer Continental Shelf (OCS)

AGENCY: Minerals Management Service, Interior.

ACTION: Notice of the availability of environmental documents. Prepared for OCS mineral proposals on the Gulf of Mexico OCS.

SUMMARY: The Minerals Management Service (MMS), in accordance with Federal Regulations that implement the National Environmental Policy Act (NEPA), announces the availability of NEPA-related Site-Specific Environmental Assessments (SEA's) and Findings of No Significant Impact (FONSI's), prepared by MMS for oil and gas activities proposed on the Gulf of Mexico OCS.

FOR FURTHER INFORMATION CONTACT: Public Information Unit, Information Services Section, Gulf of Mexico OCS Region, Minerals Management Service, 1201 Elmwood Park Boulevard, New Orleans, Louisiana 70123-2394, Telephone (504) 736-2519.

SUPPLEMENTARY INFORMATION: MMS prepares EA's and FONSI's for proposals which relate to exploration for and the development/production of oil and gas resources on the Gulf of Mexico OCS. The EA's examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where the MMS finds that approval will not result in significant effects on the quality of the human environment. The FONSI briefly presents the basis for that finding and includes a summary or copy of the EA.

This notice constitutes the public notice of availability of environmental documents required under the NEPA Regulations.

This listing includes all proposals for which the FONSI's were prepared by the Gulf of Mexico OCS Region in the period subsequent to publication of the preceding notice.

Activity/operator | Location | Date
Texaco Exploration and Production Inc., Exploration Activity, SEA No. S-5409 | Green Canyon Area, Block 137, Lease OCS-G 11026, 113 miles off the Louisiana coast | 12/28/00
Shell Deepwater Development, Inc., Development Activity, SEA No. N-6926 | Mississippi Canyon Area, Blocks 898 and 899, Leases OCS-G 9895 and 9896, 63 miles off the Louisiana coast | 01/04/01
Union Oil Company of California, Development Activity, SEA No. R-3523 | Pensacola Area, Block 881, Lease OCS-G 6390, 8 miles off the Alabama coast | 01/11/01
Atlantic Richfield Company, Structure Removal Activity, SEA No. ES/SR 99-099A | High Island Area, Block 115, Lease OCS-G 6155, 25 miles off the Texas coast | 11/20/00
Ocean Energy, Inc., Structure Removal Activity, SEA No. ES/SR 00-124 | Mustang Island Area, Block 828, Lease OCS-G 6004, 29 miles off the Texas coast | 10/11/00
Basin Exploration, Inc., Structure Removal Activity, SEA No. ES/SR 00-125 | Eugene Island Area, Block 64, Lease OCS-G 2098, 17 miles off the Louisiana coast | 10/19/00
Energy Resource Technology, Inc., Structure Removal Activity, SEA No. ES/SR 00-126 | Eugene Island Area, Block 232, Lease OCS-G 3537, 68 to 120 miles off the Louisiana coast | 10/20/00
Texaco Exploration and Production, Inc. Structure Removal Activity, SEA No. 00-127 | South Pass Area, Block 54, Lease OCS-G 1606, 9 to 28 miles off the Louisiana coast | 10/24/00
Union Oil Company of California, Structure Removal Activity, SEA No. ES/SR-128 | Ship Shoal Area, South Addition, Block 268, Lease OCS-G 7757, 55 to 77 miles off the Louisiana coast | 10/24/00
Conn Energy, Inc., Structure Removal Activity, SEA Nos. ES/SR | West Cameron Area, Block 171, Lease OCS-G 1997, 27 miles 00-129 through 00-131 off the Louisiana coast | 11/03/00
Texaco Exploration and Production, Inc., Structure Removal Activity, SEA No. ES/SR 00-132 | High Island Area, South Addition, Block A 548, Lease OCS-G 2706, 99 miles off the Texas coast | 11/14/00
Coastal Oil & Gas Corporation, Structure Removal Activity, SEA No. ES/SR 00-133 | High Island Area, Block A 497, Lease OCS-G 6231, 103 miles off the Texas coast | 12/27/00
Basin Exploration Inc., Structure Removal Activity, SEA Nos. ES/SR 00-134 and 00-135 | West Cameron Area, Block 21, Lease OCS-G 1352, 5 miles off the Louisiana coast | 11/28/00
ExxonMobil Production Company, Structure Removal Activity, SEA Nos. ES/SR 00-136 and 00-137 | Brazos Area, Block 578, Lease OCS-G 4457, 33 miles off the Texas coast | 12/27/00
Coastal Oil and Gas Corporation, Structure Removal Activity, SEA No. 00-138 | Viosca Knoll Area, Block 122, Lease OCS-G 14596, 24 miles off the Alabama coast | 12/27/00
Coastal Oil and Gas Corporation, Structure Removal Activity, SEA No. 00-139 | Viosca Knoll Area, Block 35, Lease OCS-G 13978, 19 miles off the Alabama coast | 01/04/01

Persons interested in reviewing environmental documents for the proposals listed above or obtaining information about EA's and FONSI's prepared for activities on the Gulf of Mexico OCS are encouraged to contact MMS at the address or telephone in the FOR FURTHER INFORMATION section.

Dated: March 15, 2001.
Chris C. Oynes,
Regional Director, Gulf of Mexico OCS Region.

[FR Doc. 01-7048 Filed 3-20-01; 8:45 am]

BILLING CODE 4310-MR-P